COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be provided by nonprofit agencies employing persons who are blind or have other severe disabilities, and deletes products from the Procurement List previously furnished by such agencies.

DATES: Effective Date: 9/8/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 5/23/2014 (79 FR 29747) and 6/13/2014 (33911-33912), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 USC 8501-8506) in connection with the services proposed for addition to the Procurement List.

End of Certification

Accordingly, the following services are added to the Procurement List:

Services

Service Type/Location: Laundry Service, Veterans Affairs, Nebraska Western Iowa Health Care System and VA Central Iowa Health Care System, 2501 West 22nd Street, Sioux Falls, SD.

NPA: Goodwill Specialty Services, Inc., Omaha, NE.

Contracting Activity: Department of Veterans Affairs, 438-Sioux Falls VA Medical Center, Sioux Falls, SD.

Service Type/Location: Grounds Maintenance Service, Mission and Installation Contracting Command, 1792 12th Street, Fort Riley, KS.

NPA: Skookum Educational Programs, Bremerton, WA.

Contracting Activity: Dept. of the Army, W6QM MICC-FT RILEY, Fort Riley, KS.

Service Type/Location: Assembly, Kitting, Warehousing and Fulfillment Service, National Park Service, Interpretation and Education Division, 1849 C Street NW., Washington, DC.

NPA: Industries for the Blind, Inc., West Allis, WI.

Contracting Activity: Dept. of the Interior, National Park Service, NCR Regional Contracting, Washington, DC.

Deletions

On 6/27/2014 (79 FR 36477), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 USC 8501-8506) in connection with the products deleted from the Procurement List.

End of Certification

Accordingly, the following products are deleted from the Procurement List:

Products

NSN: 8115-00-511-5750—Box, Set-Up, Mailing Dental.

NPA: Blind Industries & Services of Maryland, Baltimore, MD.

Contracting Activity: Defense Logistics Agency Troop Support, Philadelphia, PA.

NSN: 7530-01-515-7900—Paper, Printer, Ink Jet, Photo Quality, Double Side, Matte, Letter, 99 Bright White.

NSN: 7530-01-515-7471—Paper, Printer, Ink Jet, Photo Quality, 24 lb., Letter, 94 Bright White.

NPA: Wiscraft, Inc., Milwaukee, WI.

Contracting Activity: General Services Administration, New York, NY.

Barry S. Lineback,
Director, Business Operations.

[FR Doc. 2014-18774 Filed 8-7-14; 8:45 am]

BILLING CODE 6353-01-P